DEPARTMENT OF THE TREASURY

Financial Crimes Enforcement Network; Proposed Collection; Comment Request; Money Services Business Survey

AGENCY: Financial Crimes Enforcement Network, Treasury.

ACTION: Notice and request for comments.

SUMMARY: The Department of the Treasury, Financial Crimes Enforcement Network (“FinCEN”), has been engaged in a multi-year education program to disseminate information to the Money Services Business (“MSB”) industry regarding regulations that require MSBs to register with FinCEN, and to file Suspicious Activity Reports. MSBs include money transmitters, issuers, sellers, and redeemers of money orders, traveler's checks, and stored value, check cashers, and currency exchangers. FinCEN places a high priority on effective and broad-reaching initiatives to facilitate the education of MSBs and their agents in their responsibilities under the Bank Secrecy Act. FinCEN proposes to conduct a survey that is intended to provide data that can be used to evaluate the success of the MSB education program, and to measure the extent to which the MSB industry's knowledge and understanding of the new regulations has changed since an initial survey was conducted in September, 2001. The survey will consist of questions contained in the September 2001 survey, as well as additional questions designed to gauge perceptions of the MSB education program and its overall effectiveness. This request for comments is being made pursuant to the Paperwork Reduction Act of 1995, Public Law 104-13, 44 U.S.C. 3506(c)(2)(A).

DATES: Written comments are welcome and must be received on or before September 22, 2003.

ADDRESSES: Written comments should be submitted to: Office of Chief Counsel, Financial Crimes Enforcement Network, Department of the Treasury, PO Box 39, Vienna, Virginia 22183, Attention: PRA Comments—MSB Survey. Comments also may be submitted by electronic mail to the following Internet address: regcomments@fincen.treas.gov, with a caption in the body of the text, “Attention: PRA Comments—MSB Survey.”

Inspection of comments. Comments may be inspected, between 10 a.m. and 4 p.m., in the FinCEN reading room in Washington, DC. Persons wishing to inspect the comments submitted must request an appointment by telephoning (202) 354-6400.

FOR FURTHER INFORMATION CONTACT: Requests for additional information or requests for copies of the September 2001 survey and the additional questions to be asked in the survey that is the subject of this notice should be directed to: Anna Fotias, Senior Regulatory Compliance Specialist, MSB/Casino/IRS Program Office, FinCEN, at (202) 354-6400; Christine L. Schuetz, Attorney-Advisor, FinCEN, at (703) 905-3590.

SUPPLEMENTARY INFORMATION: Title: Money Services Business Program Response.

OMB Number: New Collection.

Abstract: Telephone survey to be conducted with business owners and managers in the Money Services Business industry. Survey asks respondents to report on awareness of Bank Secrecy Act recordkeeping and reporting requirements and awareness of anti-money laundering basics, including how to identify suspicious activity.

Type of Review: New information collection.

Affected public: Business or other for-profit institutions.

Frequency: One time.

Estimated number of respondents: 600.

Estimated time per respondent: Fifteen minutes.

Request for Comments:

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected: (d) ways to minimize the burden of the collection of information on respondents, including through the use of automated collection techniques or other forms of information technology; and (e) estimates of capital or start-up costs and costs of operation, maintenance and purchase of services to provide information.

Dated: July 10, 2003.
James F. Sloan,
Director, Financial Crimes Enforcement Network.

[FR Doc. 03-18605 Filed 7-21-03; 8:45 am]

BILLING CODE 4810-02-P